DEPARTMENT OF COMMERCE

International Trade Administration

Notice of Scope Rulings

AGENCY: Enforcement and Compliance, International Trade Administration, Department of Commerce.

DATES: Applicable October 20, 2017.

SUMMARY: The Department of Commerce (the Department) hereby publishes a list of scope rulings and anticircumvention determinations made between July 1, 2016, and September 30, 2016, inclusive. We intend to publish future lists after the close of the next calendar quarter.

FOR FURTHER INFORMATION CONTACT: Brenda E. Waters, AD/CVD Operations, Customs Liaison Unit, Enforcement and Compliance, International Trade Administration, U.S. Department of Commerce, 1401 Constitution Avenue NW., Washington, DC 20230; telephone: 202-482-4735.

SUPPLEMENTARY INFORMATION:

Background

The Department's regulations provide that the Secretary will publish in the Federal Register a list of scope rulings on a quarterly basis.¹ Our most recent notification of scope rulings was published on June 2, 2017.² This current notice covers all scope rulings and anticircumvention determinations made by Enforcement and Compliance between July 1, 2016, and September 30, 2016, inclusive. Subsequent lists will follow after the close of each calendar quarter.

¹ See 19 CFR 351.225(o).

² See Notice of Scope Rulings, 82 FR 26454 (June 2, 2017).

Scope Rulings Made Between July 1, 2016 and September 30, 2016

People's Republic of China

A-570-967 and C-570-968: Aluminum Extrusions From the People's Republic of China

Requestor: Adams Thermal Systems, Inc.; fittings imported from the PRC (i.e., certain fittings for oil coolers, certain fittings for condensers, certain fittings for radiators, a plug for an oil cooler, a mounting pin for an oil cooler, and a fastener for an oil cooler) that are machined from an extruded aluminum blank are within the scope of the antidumping and countervailing duty orders; July 11, 2016.

A-570-814: Carbon Steel Butt-Weld Pipe Fittings From the People's Republic of China

Requestor: Westlake Vinyls Company (Westlake); The component parts of Westlake's engineered and manufactured Pipe Spools that are produced in the PRC and imported by Westlake are within the scopes of the antidumping and countervailing duty orders on Carbon Steel Butt-Weld Pipe Fittings; Circular Welded Carbon-Quality Steel Pipe; Circular Welded Austenitic Stainless Steel Pressure Pipe; and Seamless Carbon and Alloy Steel Standard, Line, and Pressure Pipe from the PRC. The Department determines that the component parts are subject to the orders when examined individually in their own right because the components meet the language of their respective antidumping and countervailing duty orders and the 19 CFR 351.225(k)(1) sources do not exclude them from their respective orders by virtue of their inclusion into a larger product; August 15, 2016.

A-570-910 and C-570-911: Circular Welded Carbon Quality Steel Pipe From the People's Republic of China

Requestor: Westlake Vinyls Company (Westlake); The component parts of Westlake's engineered and manufactured Pipe Spools that are produced in the PRC and imported by Westlake are within the scopes of the antidumping and countervailing duty orders on Carbon Steel Butt-Weld Pipe Fittings; Circular Welded Carbon-Quality Steel Pipe; Circular Welded Austenitic Stainless Steel Pressure Pipe; and Seamless Carbon and Alloy Steel Standard, Line, and Pressure Pipe from the PRC. The Department determines that the component parts are subject to the orders when examined individually in their own right because the components meet the language of their respective antidumping and countervailing duty orders and the 19 CFR 351.225(k)(1) sources do not exclude them from their respective orders by virtue of their inclusion into a larger product; August 15, 2016.

A-570-875: Non-Malleable Cast Iron Pipe Fittings From the People's Republic of China

Requestor: Westinghouse Air Brake Technologies Corporation (Webtec Corporation); Webtec Corporation's cast iron couplings are outside the scope of the Order on Non-Malleable Cast Iron Pipe Fittings from the People's Republic of China because its cast iron couplings meet the exclusion language of the scope; August 4, 2016.

A-570-875: Non-Malleable Cast Iron Pipe Fittings From the People's Republic of China

Requestor: Napac, Inc. (Napac); Napac's gray iron flanged fittings, as well as Unifit Mechanical Coupling, Series 4200, six inches inside diameter and smaller; Unifit Mechanical Flange Adapter, Series 4426, six inches inside diameter and smaller; Rediflange Adapters, Series RFC-2 and RFC4, six inches inside diameter and smaller; Compact Flange Reducers, Series 740 and 790, six inches inside diameter and smaller; and Flange Converters, Series 840, six inches inside diameter and smaller (the couplings, adapters, reducers, and converters), are within the scope of the Order on Non-Malleable Cast Iron Pipe Fittings from the People's Republic of China because none of these products meet the scope exclusion language; September 19, 2016.

A-570-875: Non-Malleable Cast Iron Pipe Fittings From the People's Republic of China

Requestor: SIGMA Corporation (SIGMA); SIGMA's various sizes of ductile iron and stainless steel bolt rings are outside the scope of the Order on Non-Malleable Cast Iron Pipe Fittings from the People's Republic of China because they do not fulfill the specifications as described in the scope of the order; September 20, 2016.

A-570-956 and C-570-957: Seamless Carbon and Alloy Steel Standard, Line, and Pressure Pipe From the People's Republic of China

Requestor: Westlake Vinyls Company (Westlake); The component parts of Westlake's engineered and manufactured Pipe Spools that are produced in the PRC and imported by Westlake are within the scopes of the antidumping and countervailing duty orders on Carbon Steel Butt-Weld Pipe Fittings; Circular Welded Carbon-Quality Steel Pipe; Circular Welded Austenitic Stainless Steel Pressure Pipe; and Seamless Carbon and Alloy Steel Standard, Line, and Pressure Pipe from the PRC. The Department determines that the component parts are subject to the orders when examined individually in their own right because the components meet the language of their respective antidumping and countervailing duty orders and the 19 CFR 351.225(k)(1) sources do not exclude them from their respective orders by virtue of their inclusion into a larger product; August 15, 2016.

A-570-890: Wooden Bedroom Furniture From the People's Republic of China

Requestor: Delta Enterprise Corporation. One model of changing station is not covered by the scope of the antidumping duty order on wooden bedroom furniture from the People's Republic of China because it shares physical characteristics similar to those of excluded bookcases or entertainment systems, and has a flat top with a permanent guard rail. Five models of changing stations are covered by the scope of the antidumping duty order on wooden bedroom furniture from the People's Republic of China. They are not sufficiently distinguishable from dressers and other subject wooden bedroom furniture because they do not satisfy all of the criterion established to exclude changing tables from the scope, have drawers that are adequate for storing clothing, and are bedroom (nursery) furniture; August 3, 2016.

A-570-890: Wooden Bedroom Furniture From the People's Republic of China

Requestor: Bassett Mirror Company, Inc. Eight chests are not covered by the scope of the antidumping duty order on wooden bedroom furniture from the People's Republic of China because they either lack the capacity to store clothing or their decorative characteristics and how they are portrayed in advertising distinguish them from wooden bedroom chests; August 16, 2016.

A-570-890: Wooden Bedroom Furniture From the People's Republic of China

Requestor: Curations Limited. Eight chests are covered by the scope of the antidumping duty order on wooden bedroom furniture from the People's Republic of China because they are adequate for storing clothing, they have no unique decorative aspects to distinguish them from bedroom furniture, and they have been held out as suitable for the bedroom. Six stands and side tables are covered by the scope of the antidumping duty order on wooden bedroom furniture from the People's Republic of China because they have dimensions consistent with nightstands and have been held out as nightstands, bedside tables, or bedside chests. Five mirrors are not covered by the scope of the antidumping duty order on wooden bedroom furniture from the People's Republic of China because they are not part of Chinese-made mirror-dresser sets and are not marketed in conjunction with dressers made in the PRC; August 17, 2016.

A-570-890: Wooden Bedroom Furniture From the People's Republic of China

Requestor: BJ's Wholesale Club Inc. The Bombay Chest under consideration is not covered by the scope of the antidumping duty order on wooden bedroom furniture from the People's Republic of China because the chest's decorative characteristics and how the chest was portrayed in advertising distinguish the chest from bedroom chests; August 17, 2016.

A-570-890: Wooden Bedroom Furniture From the People's Republic of China

Requestor: Bassett Mirror Company, Inc. Four chests are not covered by the scope of the antidumping duty order on wooden bedroom furniture from the People's Republic of China because they are either part of a coordinated non-bedroom furniture set, advertised as non-bedroom occasional chests, not appropriate for storing clothing, have decorative design characteristics which distinguish them from wooded bedroom chests, and/or other indications that the chest is an occasional chest rather than a bedroom chest; August 17, 2016.

Interested parties are invited to comment on the completeness of this list of completed scope inquiries. Any comments should be submitted to the Deputy Assistant Secretary for AD/CVD Operations, Enforcement and Compliance, International Trade Administration, 1401 Constitution Avenue NW., APO/Dockets Unit, Room 18022, Washington, DC 20230.

This notice is published in accordance with 19 CFR 351.225(o).

Dated: October 16, 2017.
James Maeder,
Senior Director performing the duties of Deputy Assistant Secretary for Antidumping and Countervailing Duty Operations.

[FR Doc. 2017-22804 Filed 10-19-17; 8:45 am]

BILLING CODE 3510-DS-P